DEPARTMENT OF COMMERCE

International Trade Administration

United States-Mexico-Canada Agreement (USMCA), Article 10.12; Binational Panel Review: Notice of Request for Panel Review

AGENCY: United States Section, USMCA Secretariat, International Trade Administration, Department of Commerce.

ACTION: Notice of USMCA request for panel review.

SUMMARY: A Request for Panel Review was filed on behalf of CGC Inc. with the Canadian Section of the USMCA Secretariat on November 26, 2020, pursuant to USMCA Article 10.12. Panel Review was requested of the decision to not conduct an interim review made by the CITT with respect to Certain Gypsum Board, Sheet, or Panel originating in or exported from the United States of America. The decision to not conduct an interim review was published in the Canada Gazette on October 31, 2020. The USMCA Secretariat has assigned case number CDA-USA-2020-10.12-01 to this request.

FOR FURTHER INFORMATION CONTACT: Vidya Desai, Acting United States Secretary, USMCA Secretariat, Room 2061, 1401 Constitution Avenue NW, Washington, DC 20230, (202) 482-5438.

SUPPLEMENTARY INFORMATION: Article 10.12 of Chapter 10 of USMCA provides a dispute settlement mechanism involving trade remedy determinations issued by the Government of the United States, the Government of Canada, and the Government of Mexico. Following a Request for Panel Review, a Binational Panel is composed to provide judicial review of the trade remedy determination being challenged and then issue a binding Panel Decision. There are established Rules of Procedure for Article 10.12 (Binational Panel Reviews), which were adopted by the three governments for panels requested pursuant to Article 10.12(2) of USMCA which requires Requests for Panel Review to be published in accordance with Rule 40. For the complete Rules, please see https://can-mex-usa-sec.org/secretariat/agreement-accord-acuerdo/usmca-aceum-tmec/rules-regles-reglas/article-article-articulo_10_12.aspx?lang=eng.

The Rules provide that:

(a) A Party or interested person may challenge the final determination in whole or in part by filing a Complaint in accordance with Rule 44 no later than 30 days after the filing of the first Request for Panel Review (the deadline for filing a Complaint is December 29, 2020);

(b) A Party, investigating authority or interested person who does not file a Complaint but who intends to participate in the panel review must file a Notice of Appearance in accordance with Rule 45 no later than 45 days after the filing of the first Request for Panel Review (the deadline for filing a Notice of Appearance is January 11, 2021); and

(c) The panel review shall be limited to the allegations of error of fact or law, including challenges to the jurisdiction of the investigating authority, that are set out in the Complaints filed in the panel review and to the procedural and substantive defenses raised in the panel review.

Dated: December 15, 2020.
Vidya Desai,
Acting U.S. Secretary, USMCA Secretariat.

[FR Doc. 2020-28030 Filed 12-29-20; 8:45 am]

BILLING CODE 3510-GT-P